DEPARTMENT OF TRANSPORTATION

Maritime Administration

Meeting Notice—U.S. Maritime Transportation System National Advisory Committee

AGENCY: Maritime Administration, Department of Transportation

ACTION: Notice of advisory committee name change and public meeting.

SUMMARY: The Maritime Administration (MARAD) announces that the name of the U.S. Marine Transportation System National Advisory Council has been changed to the U.S. Maritime Transportation System National Advisory Committee (MTSNAC or Committee). Furthermore, MARAD announces a public meeting of the MTSNAC to discuss advice and recommendations for the U.S. Department of Transportation on issues related to the maritime transportation system. Issues the MTSNAC will consider during this meeting include: Impediments to short sea transportation; expanding international gateway ports, using waterborne transportation to increase mobility throughout the domestic transportation system; modernizing the U.S. maritime workforce; strengthening maritime capabilities; and, encouraging maritime innovation.

DATES: The meeting will be held on Tuesday, July 19, 2016 from 8:00 a.m. to 5:00 p.m. and Wednesday, July 20, 2016 from 8:00 a.m. to 12:00 p.m. Eastern Daylight Saving Time (EDT).

ADDRESSES: The meeting will be held at the U.S. Department of Transportation, Federal Motor Carrier Safety Administration, National Training Center, 1310 North Courthouse Road, Suite 600, Arlington, VA 22201-2508.

FOR FURTHER INFORMATION CONTACT: Eric Shen, Co-Designated Federal Officer at: (202) 308-8968, or Jeffrey Flumignan, Co-Designated Federal Official at (212) 668-2064 or via email: MTSNAC@dot.gov or visit the MTSNAC Web site at http://www.marad.dot.gov/ports/marine-transportation-system-mts/marine-transportation-system-national-advisory-committee-mtsnac/.

SUPPLEMENTARY INFORMATION: The MTSNAC is a Federal advisory committee within MARAD that advises the U.S. Department of Transportation on issues related to the marine transportation system. The MTSNAC was originally established in 1999 and mandated in 2007 by the Energy Independence and Security Act of 2007. The MTSNAC operates in accordance with the provisions of the Federal Advisory Committee Act (FACA).

Agenda

The agenda will include: (1) Welcome, opening remarks and introductions; (2) formation of subcommittees or work groups; (3) development of work plans and proposed recommendations; (4) appointment of Vice Chair and (5) public comment. The meeting agenda will be posted on the MTSNAC Web site at http://www.marad.dot.gov/ports/marine-transportation-system-mts/marine-transportation-system-national-advisory-committee-mtsnac/.

The Maritime Administration requested that the MTSNAC consider the following issues for potential recommendations:

1. Impediments to effective use of short sea transportation, including America's Marine Highways (see, 46 CFR part 393), and methods to expand the use of the Marine Transportation System for freight and passengers;

2. Expanding the capacity of U.S. international gateway ports to accommodate larger vessels;

3. Improving waterborne transport to reduce congestion and increase mobility throughout the domestic transportation system;

4. Strengthening maritime capabilities essential to economic and national security;

5. Modernizing the maritime workforce and inspire and educate the next generation of mariners; and,

6. Driving maritime innovation.

In addition, the Maritime Administrator may request the MTSNAC to provide advice on other issues relating to the marine transportation system.

Public Participation

The meeting will be open to the public. Members of the public who wish to attend in person must RSVP to MTSNAC@dot.gov with your name and affiliation no later than 5:00 p.m. EDT on July 8, 2016, in order to facilitate entry. Seating will be extremely limited and available on a first-come-first-serve basis.

Services for Individuals with Disabilities: The public meeting is physically accessible to people with disabilities. Individuals requiring accommodations, such as sign language interpretation or other ancillary aids are asked to notify Eric Shen at: (202) 308-8968, or Jeffrey Flumignan at (212) 668-2064 or MTSNAC@dot.gov five (5) business days before the meeting.

Written comments: Persons who wish to submit written comments for consideration by the Committee must email MTSNAC@dot.gov, or send them to MTSNAC Designated Federal Officers via email: MTSNAC@dot.gov, Maritime Transportation System National Advisory Committee, 1200 New Jersey Avenue SE., W21-307, Washington, DC 20590 no later than 5:00 p.m. EDT on July 8, 2016 to provide sufficient time for review.

Authority: 49 CFR part 1.93(a); 5 U.S.C. 552b; 41 CFR parts 102-3; 5 U.S.C. app. Sections 1-16.

By Order of the Maritime Administrator.
Dated: June 28, 2016.
Gabriel Chavez,
Secretary, Maritime Administration.

[FR Doc. 2016-15769 Filed 7-1-16; 8:45 am]

BILLING CODE 4910-81-P